DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 26, 2001.

Interested persons are invited to submit written comments regarding the subject matter of the investigations to the Director, Division of Trade Adjustment Assistance, at the address shown below, not later than April 26, 2001.

The petitions filed in this case are available for inspection at the Office of the Director, Division of Trade Adjustment Assistance, Employment and Training Administration, U.S. Department of Labor, Room C-5311, 200 Constitution Avenue, NW., Washington, DC 20210.

Signed at Washington, DC this 19th day of March, 2001.
Edward A. Tomchick,
Director, Division of Trade Adjustment Assistance.

Appendix—Petitions Instituted On 03/19/2001

TA-W | Subject firm (petitioners) | Location | Date of petition | Product(s)
38,842 | Wisconsin Machine Tool (UAW) | West Allis, WI | 03/06/2001 | Drill and Boring Heads Machinery.
38,843 | Brand Mills Ltd (UNITE) | Hackensack, NJ | 02/28/2001 | Lace Knitting.
38,844 | Discwax Corp (Wkrs) | Stanley, NC | 02/12/2001 | Knitted Yarn.
38,845 | Borg Warner Transmission (Wkrs) | Coldwater, MI | 02/27/2001 | Automotive Dampers.
38,846 | Black and Decker (Comp) | Beloit, WI | 03/06/2001 | Screwdriver Bits.
38,847 | Racewater Designs, Inc. (Comp) | El Cajon, CA | 03/04/2001 | Jackets, Crew Shirts.
38,848 | Allval (USWA) | Latrobe, PA | 03/02/2001 | Specialty Steels.
38,849 | Bi-Comp, Inc (Wkrs) | York, PA | 03/03/2001 | Textbooks, Medical Journals.
38,850 | Perfect Fit Industries (Comp) | Richfield, NC | 02/28/2001 | Comforters, Bed Spreads.
38,851 | Norgren, Inc. (Wkrs) | Mt. Clemens, MI | 03/02/2001 | Valve Assembly.
38,852 | Lucia, Inc. (Comp) | Winston Salem, NC | 03/02/2001 | Ladies' Apparel.
38,853 | Kasle Steel/Auto Press (IBT) | Dearborn, MI | 02/16/2001 | Coiled Steel.
38,854 | Ivex Corp/Chargurs (PACE) | Troy, OH | 02/26/2001 | Carpet Masking.
38,855 | Willamette Industries (Wkrs) | Sweet Home, OR | 03/01/2001 | Plywood.
38,856 | Garon Manufacturing (Wkrs) | Oak Grove, LA | 02/20/2001 | Cut Piece Goods.
38,857 | Erie Coke Corp. (Wkrs) | Erie, PA | 02/22/2001 | Foundry Coke.
38,858 | Goodyear Tire and Rubber (Wkrs) | Cartersville, GA | 02/28/2001 | Dipped Tire Cord Fabrics.
38,859 | Fonda Group, Inc. (Wkrs) | Maspeth, NY | 03/01/2001 | Paper Goods.
38,860 | Coil Center Corp. (UAW) | Howell, MI | 03/01/2001 | Steel Blanks.
38,861 | Brach Confections, Inc. (IBT) | Chicago, IL | 02/27/2001 | Hard Candy, Chocolates, Gum.
38,862 | Pacific Tube Co (Comp) | Los Angeles, CA | 03/01/2001 | Drawn on Mandrel (DOM) & Steel Tubing.
38,863 | Honeywell-Serck (Comp) | Burkesville, KY | 03/02/2001 | Heat Trangler Products.
38,864 | International Wire (Comp) | Elkmont, AL | 02/28/2001 | Wire.
38,865 | I and H Engineered System (UAW) | Gaylord, MI | 02/14/2001 | Equipment—Food Industry.
38,866 | Global, dba Appalachian (Wkrs) | Belington, WV | 02/28/2001 | Wooden Arms.
38,867 | Kerr McGee Chemical, LLC (Wkrs) | Hamilton, MS | 03/02/2001 | Manganese Metal and Maganese Briquette.
38,868 | PACCAR-Kenworth (Wkrs) | Chillicothe, OH | 03/02/2001 | Heavy Duty Trucks.
38,869 | Westfield Tanning (Wkrs) | Westfield, PA | 03/02/2001 | Leather Components—Footwear.
38,870 | American Bag Corp (Comp) | Winfield, TN | 03/08/2001 | Automotive Airbags.
38,871 | Vishay Sprague, Inc (Comp) | Sanford, ME | 03/08/2001 | Surface Mounted Capacitors.
38,872 | J. Paul Levesque and Sons (Comp) | Ashland, ME | 03/02/2001 | Lumber.
38,873 | Kodak Polychrome Graphics (Wkrs) | Holyoke, MA | 02/16/2001 | Lithographic Plates.
38,874 | Valeo Climate Control (Comp) | Arcola, IL | 03/05/2001 | Automobile Air Conditioner Modules.
38,875 | Drexel Heritage (Comp) | Black Mountain, NC | 03/05/2001 | Residential Furniture.
38,876 | Worthington Steel Malvern (USWA) | Malvern, PA | 03/03/2001 | Hot and Cold Rolled Steel.
38,877 | Trinity Industries (USWA) | Johnstown, PA | 03/05/2001 | Railroad Freight Car Axles.
38,878 | Richard Leeds Internation (Wkrs) | Scotland Neck, NC | 03/01/2001 | Ladies' Sleepwear.
38,879 | Hastings Manufacturing Co (Wkrs) | Hastings, MI | 03/08/2001 | Piston Rings.
38,880 | Cooper Energy Service (IAMAW) | Springfield, OH | 03/06/2001 | Machined Parts.
38,881 | Viasystems Technologies (CWA) | Richmond, VA | 03/09/2001 | Printed Circuit Boards.
38,882 | Thalman Manufacturing (UNITE) | Hempstead, NY | 03/09/2001 | Neckties.
38,883 | Graphic Packaging (AWPPW) | Portland, OR | 03/06/2001 | Board Stock Products.
38,884 | Freightliner Truck (IAM) | Portland, OR | 03/09/2001 | Commercial Trucks.
38,885 | Grote Industries, LLC (IAM) | Madison, IN | 03/06/2001 | Electrical Wiring Harnesses.

[FR Doc. 01-9280 Filed 4-13-01; 8:45 am]

BILLING CODE 4510-30-M